ENVIRONMENTAL PROTECTION AGENCY

40 CFR Part 52

[EPA-R06-OAR-2025-0197; FRL-12217-02-R6]

Air Plan Approval; Texas and Oklahoma; Texas Regional Haze Plans for the First and Second Implementation Periods and Five-Year Progress Report; Oklahoma Regional Haze Plan for the First Implementation Period

AGENCY: Environmental Protection Agency (EPA).

ACTION: Final rule.

SUMMARY: The Environmental Protection Agency (EPA) is approving the regional haze State Implementation Plan (SIP) revisions submitted by the Texas Commission on Environmental Quality (TCEQ or Texas), dated March 20, 2014, and July 20, 2021, as satisfying applicable requirements under the Clean Air Act (CAA or Act) and EPA's Regional Haze Rule (RHR). Additionally, the EPA is approving portions of the 2009 Texas Regional Haze SIP submission and portions of the 2010 Oklahoma Regional Haze SIP submission that relate to reasonable progress requirements for the first planning period from 2007 through 2018. The EPA is taking these actions pursuant to sections 110 and 169A of the Act.

DATES: This final rule is effective on January 5, 2026.

ADDRESSES: The EPA has established a docket for this action under Docket ID EPA-R06-OAR-2025-0197. All documents in the docket are listed on the www.regulations.gov website. Although listed in the index, some information is not publicly available, e.g., confidential business information (CBI) or other information whose disclosure is restricted by statute. Certain other material, such as copyrighted material, is not placed on the internet and will be publicly available only in hard copy form. Publicly available docket materials are available through www.regulations.gov, or please contact the person identified in the FOR FURTHER INFORMATION CONTACT section for additional availability information.

FOR FURTHER INFORMATION CONTACT: Michael Feldman, U.S. Environmental Protection Agency, Region 6, Air and Radiation Division, SO2 and Regional Haze Section (ARSH), 1201 Elm Street, Suite 500, Dallas, Texas 75270, 214-665-9793, Feldman.Michael@epa.gov.

SUPPLEMENTARY INFORMATION:

Table of Contents

I. Background

II. Rationale for This Final Action

III. Public Comments Received on the Proposed Action and Responses to Comments

IV. Impact on Areas of Indian Country

V. Final Action

VI. Statutory and Executive Order Reviews

I. Background

On March 31, 2009, Texas submitted a revision to its SIP to address regional haze for the first planning period ¹ (2009 Plan). Texas made this SIP submission to satisfy the requirements of the CAA's regional haze program pursuant to CAA sections 169A and 169B and 40 CFR 51.308.

¹ We use the term “planning period” and “implementation period” interchangeably throughout this preamble and in the associated RTC Document.

As detailed in our May 2025 Proposed Rule, the EPA is approving the portions of the Texas 2009 Plan addressing the following requirements which were previously disapproved: ²

² 81 FR 296 (January 5, 2016). As explained in the May 2025 Proposed Rule, the Fifth Circuit granted the EPA's motion for partial voluntary vacatur on December 17, 2024, vacating the SIP disapprovals and FIP portions of the 2016 Final Rule. Texas v. EPA, Case No. 16-60118, Order (December 17, 2024).

• Section 51.308(d)(1)(i)(A) and (d)(1)(ii), regarding Texas's consideration of the four statutory factors in establishing its reasonable progress goals for the Guadalupe Mountains and Big Bend National Parks;

• Section 51.308(d)(1)(i)(B), regarding Texas's calculation of the emission reductions needed to achieve the uniform rates of progress for the Guadalupe Mountains and Big Bend National Parks;

• Section 51.308(d)(2)(iii), regarding Texas's calculation of natural visibility conditions for the Guadalupe Mountains and Big Bend National Parks;

• Section 51.308(d)(2)(iv)(A), regarding Texas's calculation of the number of deciviews by which baseline conditions exceed natural visibility conditions for the Guadalupe Mountains and Big Bend National Parks;

• Section 51.308(d)(3)(i), regarding consultation requirements with other states where emissions from Texas are reasonably anticipated to contribute to visibility impairment in any Class I area located in another state or states;

• Section 51.308(d)(3)(ii), regarding Texas securing its share of reductions necessary to achieve the reasonable progress goals at impacted Class I areas in other states;

• Section 51.308(d)(3)(iii), regarding Texas's documentation of its technical basis for which it is relying on to determine its apportionment of emission reductions necessary for those Class I areas in other states for which it affects; and

• Section 51.308(d)(3)(v)(C), regarding Texas's emission limitations and schedules for compliance to achieve the reasonable progress goals.

Similarly, we are also approving the portion of Oklahoma's first planning period SIP addressing 40 CFR 51.308(d)(1) ³ which we previously disapproved.⁴ The May 2025 Proposed Rule provided background on the requirements of the CAA and RHR, summarized Texas's 2009 Plan and Oklahoma's 2010 Plan, and explained the rationale for our proposed approvals.⁵ That background and rationale will not be restated in full here.

³ Excluding the portion addressing 40 CFR 51.308(d)(1)(vi), which we previously approved.

⁴ 81 FR 296 (January 5, 2016).

⁵ 90 FR 22166 (May 23, 2025). See sections II, III, and V of the proposal.

On March 20, 2014, Texas submitted its five-year progress report as a SIP revision (2014 Plan) to satisfy the requirements of 40 CFR 51.308(g) and (h). The May 2025 Proposed Rule provided background on the requirements of the CAA and RHR, summarized Texas's 2014 Plan, and explained the rationale for our proposed approval.⁶ That background and rationale will not be restated in full here.

⁶ 90 FR 22166 (May 23, 2025). See sections II, III, and V of the proposal.

On July 20, 2021, the TCEQ submitted a revision to its SIP (2021 Plan) to address the State's regional haze obligations for the second planning period, which runs through 2028, in accordance with CAA sections 169A and the RHR at 40 CFR 51.308(f). On October 15, 2024, the EPA proposed to approve the elements of the 2021 Plan related to requirements contained in 40 CFR 51.308(f)(1), (f)(4), (f)(5),⁷ and (f)(6) and to disapprove the elements of the 2021 Plan related to requirements contained in 40 CFR 51.308(f)(2), (f)(3), and (i). During that public notice-and-comment period, the EPA received several adverse comments. The full text of comments received on the October 15, 2024, proposal are available via Docket ID Number EPA-R06-OAR-2021-0539 at www.regulations.gov. On May 23, 2025 (May 2025 Proposed Rule), the EPA withdrew the October 15, 2024, proposal and proposed to approve Texas's 2021 Plan in full. The May 2025 Proposed Rule provided background on the requirements of the CAA and RHR, summarized Texas's 2021 Plan, and explained the rationale for our proposed approval.⁸ That background and rationale will not be restated in full here.

⁷ 40 CFR 51.308(f)(5) requires that the second planning period SIP revision address the requirements listed in 40 CFR 51.308(g)(1) through (5).

⁸ 90 FR 22166 (May 23, 2025). See sections II, III, and VII of the proposal.

As discussed in our May 2025 Proposed Rule, in sections II and III of this preamble, and in the accompanying Response to Comments document (RTC Document), the EPA finds that Texas's, and where relevant Oklahoma's, regional haze SIPs meet the statutory and specific regulatory requirements of the regional haze first planning period, the five-year progress report for the first planning period, and for the regional haze second planning period.

II. Rationale for This Final Action

A. Rationale for First Planning Period and Progress Report

In this final rule, the EPA is approving portions of Texas's 2009 Plan and portions of Oklahoma's 2010 Plan. As articulated in the May 2025 Proposed Rule, and the RTC Document in support of this final rule, the EPA's evaluation takes into account the requirements of the CAA and RHR and is informed by the published Stay Opinion from the Fifth Circuit. The Stay Opinion outlined that the Petitioners had a strong likelihood of success on the merits in showing that the EPA was arbitrary and capricious and exceeded its statutory authority in partially disapproving the Texas and Oklahoma plans and replacing portions of them with a Federal Implementation Plan (FIP). Because Texas considered the four factors and otherwise met the outstanding first planning period rule requirements contained in 40 CFR 51.308(d), we are finalizing approval of Texas's 2009 Plan. As discussed in greater detail in the proposal and the RTC Document, the RHR provides states with flexibility in the sources they select for further evaluation and how states consider the four factors. As permitted by the RHR, Texas relied on the technical information and analyses from the regional planning organization (RPO) it participated in at the time, CENRAP,⁹ as a starting point for its analyses. We reviewed the source selection, four factor analysis and reasonable progress determination in the SIP and find it to meet the applicable requirements. The source selection methodology identified a reasonable number of sources. Texas considered the costs and emission reductions associated with potential controls, along with the other statutory factors, weighed the estimated visibility benefits that would result from those controls and determined that no additional reductions were necessary beyond those accounted for in the CENRAP modeling. Approval of Texas's 2009 Plan is further warranted due to Best Available Retrofit Technology (BART) obligations for electric generating units (EGUs) that have been addressed since 2017 and affirmed in 2020 which ensured that the emissions reductions from Clean Air Interstate Rule (CAIR) ¹⁰ that were included in the CENRAP modeling were accounted for.¹¹ As we noted in the May 2025 Proposed Rule, and further elaborate on in the RTC Document, emission reductions and improvement in visibility have far exceeded the reductions and improvements contemplated in the 2009 Plan. Moreover, the Fifth Circuit weighed the improvements in monitored visibility exceeding the goals in its 2016 Stay Opinion. Finally, as explained in the May 2025 Proposed Rule, because our now-vacated disapproval of portions of Oklahoma's 2010 Plan was largely contingent on our now-vacated disapproval of portions of Texas's 2009 Plan, we are also finalizing approval of the portion of Oklahoma's 2010 Plan that addresses 40 CFR 51.308(d)(1).¹²

⁹ The Central States Air Resource Agencies (CenSARA) is a regional planning organization (RPO) that was created in 1995 and currently includes as members the States of Texas, Oklahoma, Louisiana, Arkansas, Missouri, Kansas, Nebraska, and Iowa, as well as the federally recognized tribes within the boundaries of these States. CenSARA created the Central Regional Air Planning Association (CENRAP) to coordinate activities associated with the management of regional haze issues within the member States and tribes. However, CENRAP has since been abolished and CenSARA currently conducts regional haze and other air quality planning activities for the CenSARA States. Since CENRAP was the entity which conducted technical analyses during the first planning period, this notice references CENRAP when discussing Texas's 2009 Plan and Oklahoma's 2010 Plan.

¹⁰ CAIR required certain States, including Texas, to reduce emissions of SO2 and NOX that significantly contribute to downwind nonattainment of the 1997 NAAQS for fine particulate matter and ozone. See 70 FR 25152 (May 12, 2005).

¹¹ See 82 FR 48324 (October 17, 2017); 85 FR 49170 (August 12, 2020).

¹² Excluding the portion addressing 40 CFR 51.308(d)(1)(vi), which we previously approved.

Additionally, the EPA is approving Texas's 2014 Plan, for the reasons set out in the May 2025 Proposed Rule and RTC Document. The EPA finds that Texas's 2014 Plan satisfies the progress report SIP requirements for the first planning period contained in 40 CFR 51.308(g), (h), and (i).

B. Rationale for Second Planning Period

In this final rule, the EPA is approving Texas's 2021 Plan and affirming that it is now the Agency's policy that, where visibility conditions for a Class I Federal area impacted by a state are below the uniform rate of progress (URP) and the state has considered the four statutory factors, the state will have presumptively demonstrated reasonable progress for the second planning period for that area. The EPA acknowledges that this final action reflects a change in policy as to how the URP should be used in the evaluation of regional haze second planning period SIPs but believes that this policy better aligns with the purpose of the statute and RHR: achieving “reasonable” progress towards natural visibility.

As described in the May 2025 Proposed Rule, the EPA has discretion and authority to change its policy. In FCC v. Fox Television Stations, Inc., the U.S. Supreme Court plainly stated that an agency is free to change a prior policy and “need not demonstrate . . . that the reasons for the new policy are better than the reasons for the old one; it suffices that the new policy is permissible under the statute, that there are good reasons for it, and that the agency believes it to be better.” 566 U.S. 502, 515 (2009) (referencing Motor Vehicle Mfrs. Ass'n of United States, Inc. v. State Farm Mut. Auto. Ins. Co., 463 U.S. 29 (1983)). See also Perez v. Mortgage Bankers Assn., 135 S. Ct. 1199 (2015).

In developing the regulations required by CAA section 169A(b), the EPA established the concept of the URP for each Class I area. The URP is determined by drawing a straight line from the measured 2000-2004 baseline conditions (in deciviews) for the 20% most impaired days at each Class I area to the estimated natural conditions (in deciviews) for the 20% most impaired days in 2064. From this calculation, a URP value can be calculated for each year between 2004 and 2064. The EPA developed the URP to address the diverse concerns of Eastern and Western states and account for the varying levels of visibility impairment in Class I areas around the country while ensuring an equitable approach nationwide. For each Class I area, states must calculate the URP for the end of each planning period (e.g., in 2028 for the second planning period).¹³ 40 CFR 51.308(f)(1)(vi)(A). States may also adjust the URP to account for impacts from anthropogenic sources outside the United States and/or impacts from certain wildland prescribed fires. 40 CFR 51.308(f)(1)(vi)(B). Then, for each Class I area, states must compare the reasonable progress goal (RPG) for the 20% most impaired days to the URP for the end of the planning period. If the RPG is above the URP, then an additional “robust demonstration” requirement is triggered for each state that contributes to that Class I area. 40 CFR 51.308(f)(3)(ii)(B).

¹³ We note that Reasonable Progress Goals (RPGs) are a regulatory construct that we developed to address the statutory mandate in CAA section 169B(e)(1), which required our regulations to include “criteria for measuring `reasonable progress' toward the national goal.” Under 40 CFR 51.308(f)(3)(ii), RPGs measure the progress that is projected to be achieved by the control measures a state has determined are necessary to make reasonable progress. Consistent with the 1999 RHR, the RPGs are unenforceable, though they create a benchmark that allows for analytical comparisons to the URP and mid-implementation-period course corrections if necessary. 82 FR 3091-92 (January 10, 2017).

In the 2017 RHR Revisions, the EPA addressed the role of the URP as it relates to a state's development of its second planning period SIP. 82 FR 3078 (January 10, 2017). Specifically, in response to comments suggesting that the URP should be considered a “safe harbor” that relieve States of any obligation to consider the four statutory factors, the EPA explained that the URP was not intended to be such a safe harbor. Id. at 3099. “Some commenters stated a desire for corresponding rule text dealing with situations where RPGs are equal to (“on”) or better than (“below”) the URP or glidepath. Several commenters stated that the URP or glidepath should be a “safe harbor,” opining that states should be permitted to analyze whether projected visibility conditions for the end of the implementation period will be on or below the glidepath based on on-the-books or on-the-way control measures, and that in such cases a four-factor analysis should not be required.” Id.

Other comments indicated a similar approach, such as “a somewhat narrower entrance to a `safe harbor,' by suggesting that if current visibility conditions are already below the end-of-planning-period point on the URP line, a four-factor analysis should not be required.” Id. The EPA stated in its response that we did not agree with either of these recommendations. “The CAA requires that each SIP revision contain long-term strategies for making reasonable progress, and that in determining reasonable progress states must consider the four statutory factors. Treating the URP as a safe harbor would be inconsistent with the statutory requirement that states assess the potential to make further reasonable progress towards natural visibility goal in every implementation period.” Id.

Importantly, the EPA's recently adopted policy does not make the URP a safe harbor. The policy merely creates a presumption that the state's second planning period SIP is making reasonable progress for a Class I Federal area if the state has taken into consideration the four statutory factors of 169A(g)(1) and that area is below the URP. This is consistent with the CAA and RHR.

The Class I areas impacted by emissions from Texas sources are all below the 2028 adjusted URP with one possible exception, and Texas's SIP submittal demonstrated that the state took into consideration the four reasonable progress factors listed in CAA 169A(g)(1) ¹⁴ with respect to an adequate number of emissions sources. Based on Texas's modeling, projected 2028 visibility conditions on the most impaired days at Salt Creek Wilderness Area (Salt Creek) are above the adjusted URP. However, as detailed in our May 2025 Proposed Rule and in section V.B of the RTC Document, EPA conducted an additional analysis for Salt Creek.¹⁵ As part of that analysis, we showed that the most recent IMPROVE monitoring network data available at the time of our proposal indicated that visibility conditions are improving at a faster rate than the modeling projected and extrapolating monitoring data suggests that Salt Creek will likely be below the adjusted glidepath in 2028. To support this conclusion, we explained how conservative assumptions and approaches utilized in Texas's modeling resulted in both a smaller adjustment to its URP as well as less modeled visibility improvement projected in 2028. Had Texas used similar modeling assumptions and approaches to those used by the Western Regional Air Partnership (WRAP) and the EPA, the modeled result would have likely shown greater projected visibility improvement during the course of the planning period and a higher adjustment to the URP glidepath. Based on this information, visibility conditions in 2028 at Salt Creek are anticipated to be below the adjusted glidepath.¹⁶ Finally, while the EPA's policy establishes a presumption regarding areas that are projected to be below the URP, states whose emissions contribute to impairment in areas above the URP can still meet the applicable requirements of the CAA and the RHR. Indeed, the RHR specifically addresses this situation by requiring a “robust demonstration” that there are no additional emissions reduction measures at contributing sources that would be reasonable to include in the long-term strategy.” ¹⁷ While Texas's modeling indicated that the 2028 projected visibility conditions at Salt Creek may be above the adjusted URP, at the time Texas submitted the SIP in 2021, New Mexico had not established an RPG for the Salt Creek Class I area. Thus, Texas had no way of knowing whether a robust demonstration would be required at the time it submitted its SIP. Texas highlighted as much in its 2021 Plan and during its consultation with New Mexico. To date, New Mexico has not finalized its second planning period SIP revision, and thus, the State has not finalized its long-term strategy, established a final visibility projection (the reasonable progress goal) for Salt Creek, or calculated the adjusted URP for 2028 for Salt Creek. New Mexico has gone out for public comment on its draft regional haze plan for the second planning period and is working towards a final plan to submit to EPA.¹⁸ Additionally, as described in section V.B.1.c of the RTC Document, even if Salt Creek is assumed to be above the 2028 adjusted URP, we find, consistent with 40 CFR 51.308(f)(3)(ii)(B), that Texas's four-factor analyses adequately satisfied the requirement to conduct a robust analysis. Therefore, because all of the Class I areas that Texas contributes to are likely to be below the 2028 URP, and because Texas meets the rule requirements for a robust analysis, we find that Texas's conclusion that no additional measures were necessary to include in its own long-term strategy was reasonable. Thus, the EPA has determined that Texas's 2021 Plan is fully approvable under the CAA, the RHR, and the Agency's recently adopted policy.

¹⁴ The four statutory factors required to be taken into consideration in determining reasonable progress are: the costs of compliance, the time necessary for compliance, and the energy and nonair quality environmental impacts of compliance, and the remaining useful life of any existing source subject to such requirements. CAA section 169(g)(1).

¹⁵ Additional information as to Salt Creek can also be found in EPA's Salt Creek Supplemental Analysis Memorandum entitled “EPA analysis of Salt Creek National Wildlife Refuge Modeling and Monitoring Data related to 2028 Uniform Rate of Progress in Review of Texas Second Regional Haze SIP,” available in the docket for this action at document ID 2025-0197-0031.

¹⁶ Additional details of our analysis of visibility conditions at Salt Creek can be found in Response V.B.1.c in our associated RTC, and in the Salt Creek Memo available in the docket for this action.

¹⁷ 40 CFR 51.308(f)(3)(ii)(B).

¹⁸ Information on the status of New Mexico's Second Planning Period SIP Revision can be found at https://www.env.nm.gov/air-quality/reg-haze/.

III. Public Comments Received on the Proposed Action and Responses to Comments

The EPA's May 2025 Proposed Rule provided a 30-day public comment period that was then extended to July 23, 2025.¹⁹ The EPA received 15 sets of comments during the comment period. Two of these sets of comments (-0042 and -0049) were submitted in the form of mass comment campaigns.²⁰ During the public notice-and-comment period, the EPA received five sets of generally supportive comments from various state entities, specific utility companies, and coalitions and councils representing utilities. Specifically, the commenters included the Texas Commission on Environmental Quality (-0052), NRG Texas Power LLC (-0053); ²¹ Luminant Generation Company LLC, Coleto Creek Power LLC, and Oak Grove Management Company LLC (-0054); Power Generators Air Coalition (PGen) (-0055); and Ameren Missouri, American Electric Power, Nebraska Public Power District as Utilities for Reasonable Progress (-0043). Commenters specifically supported the EPA's new URP policy and explained how the policy is based on a proper understanding of the CAA. Commenters also offered additional rationales and reasons to support EPA's proposed approvals as well as suggestions for ways to revise the Regional Haze Rule (RHR).

¹⁹ 90 FR 26232 (June 20, 2025).

²⁰ Document number-0042 is a compilation of 247 comments submitted through the Sierra Club collected through a mass mailer campaign. Similarly, document number -0049 is a compilation of 1,028 comments collected by the Sierra Club in a mass mailer campaign. All of these individual comments are available in the docket for this action (EPA-R06-OAR-2025-0197).

²¹ We note that NRG submitted a separate a version of its comments, which contained additional attachment marked as CBI. The attachment was a Sargent and Lundy Report on costs associated with upgrading the FGD at NRG Limestone Units 1 and 2. In accordance with 40 CFR part 2 that document is not available for public viewing in EPA's docket.

The EPA acknowledges these supportive comments, which are included in full in the docket for this action. The EPA is finalizing its proposed approval of the remaining portions of Texas's 2009 Plan and Oklahoma's 2010 Plan, Texas's 2014 first planning period progress report, and Texas's 2021 Plan for the reasons laid out in our May 2025 Proposed Rule, this preamble, and the associated RTC Document. To the extent commenters identify suggestions or ideas for ways to amend the RHR for future planning periods, those comments are beyond the scope of this rule.

We respond to the issues raised in the remaining comment letters received on our May 2025 Proposed Rule in this preamble and the associated RTC Document, which is included in the docket for this rule.

A. Comments Related to the First Planning Period and First Planning Period Progress Report

We briefly address in this section comments raised in opposition to our May 2025 proposed approval of portions of Texas's 2009 Plan, Texas's 2014 Plan, and portions of Oklahoma's 2010 Plan. Generally, the commenters in opposition asserted that the EPA is arbitrary and capricious in approving portions of Texas's 2009 Plan, Texas's 2014 Plan, and portions of Oklahoma's 2010 Plan. In so asserting, the commenters noted the EPA's prior statements in various rulemakings ²² regarding the following issues: the Fifth Circuit's 2016 Stay Opinion; previously proposed reasons for disapproval; Texas's determination of natural visibility conditions; the Texas and Oklahoma RPGs and consultation; impacts from international emissions; and the Texas SO2 Trading Program. The commenters argue, based on the EPA's prior statements supporting disapproval of portions of Texas's 2009 Plan and Oklahoma's 2010 Plan, that the EPA is arbitrary and capricious in now approving those portions of the plans. Additionally, the commenters assert that the EPA's reliance on the Fifth Circuit's 2016 Stay Opinion is arbitrary and capricious.

²² Notably, the commenters quote extensively from the EPA's 2014 Proposed Rule, 2016 Final Rule, 2017 RHR Revisions, and 2023 Proposed Rules to address first planning period requirements for Texas (and Oklahoma).

As detailed in section IV of the RTC Document associated with this rule, the EPA explained its bases for approving portions of Texas's 2009 Plan, Texas's 2014 Plan, and portions of Oklahoma's 2010 Plan in our May 2025 Proposed Rule and reiterated those bases in responding to the comments. As explained in the May 2025 Proposed Rule, the SIP disapprovals and FIPs contained in the 2016 Final Rule were vacated by the Fifth Circuit on December 17, 2024. As such, the EPA was put in a position to act anew on these portions of the Texas and Oklahoma first planning period plans. We articulate our reasoning for approving the plans in both the May 2025 Proposed Rule and the RTC Document. Finally, while we were informed by and took into account the 2016 Stay Opinion in our decision, we are finalizing approval of the relevant portions of Texas's 2009 Plan and Oklahoma's 2010 Plan, based on the requirements of the CAA and RHR, which provide the states with considerable flexibility in crafting their regional haze plans.

As discussed in our May 2025 Proposed Rule and RTC Document associated with this rule, because Texas adequately considered the four statutory factors and otherwise met the outstanding first planning period rule requirements contained in 40 CFR 51.308(d), we are approving the remaining outstanding portions of Texas's 2009 Plan. As previously discussed, the RHR provides states with flexibility in the sources they select for further evaluation and how states consider the four factors. As permitted by the RHR, Texas relied on the technical information and analyses from the RPO it participated in at the time, CENRAP, as a starting point for its analyses. We reviewed the source selection, four factor analysis and reasonable progress determination in the SIP and find it to meet the applicable requirements. The source selection methodology identified a reasonable number of sources. Texas considered the costs and emission reductions associated with potential controls, along with the other statutory factors, weighed the estimated visibility benefits that would result from those controls and determined that no additional reductions were necessary beyond those accounted for in the CENRAP modeling, which included the emission reductions which were anticipated under the CAIR, or its replacement. As discussed in detail in the May 2025 Proposed Rule and RTC Document, the Texas SO2 Trading Program and the Cross-State Air Pollution Rule (CSAPR) NOX Program serve as replacements for the reductions anticipated from the CAIR program such that we can approve the outstanding portions of Texas's 2009 Plan.

We are also finalizing our approval of Texas's 2014 Plan as it satisfied the applicable requirements of the RHR.

B. Comments Related to the Second Planning Period

We briefly address in this section: (1) whether the EPA's new policy is consistent with the CAA and RHR; (2) whether the EPA sufficiently justified its basis for the new policy; (3) whether the EPA's approval of Texas's 2021 Plan is based on a determination of nationwide scope and effect; (4) whether EPA's approval of Texas's 2021 Plan departs from national policy without complying with the EPA's consistency regulations at 40 CFR part 56; and (5) whether the 2021 Plan meets the applicable statutory and regulatory requirements in accordance with the new policy.

As detailed at length in section V.A of the RTC Document associated with this rule, the EPA's new policy is consistent with the CAA. Pursuant to CAA 169A(a)(4), Congress explicitly delegated to the EPA the authority to promulgate regulations regarding reasonable progress towards meeting the national goal. As some comments note, to determine the measures necessary to make reasonable progress towards the national visibility goal under 169A(a)(1), Congress mandated “tak[ing] into consideration the cost of compliance, the time necessary for compliance, the energy and nonair quality environmental impacts of compliance, and the remaining useful life of any existing source subject to such requirement.” ²³

²³ CAA 169A(g)(1).

The EPA emphasizes that just because a Class I area is below the URP does not mean that a state is relieved of its obligations under the CAA and the RHR to make reasonable progress. In other words, the URP is not a “safe harbor,” as that phrase has sometimes been used, because the EPA still must review a state's determination whether additional control measures are necessary to make reasonable progress, determine whether the state submitted those measures for incorporation into the SIP, and evaluate whether the measures are consistent with other provisions in the CAA.

As discussed in the West Virginia final action,²⁴ the EPA's change in policy is consistent with FCC v. Fox Television, 556 U.S. 502 (2009). Under FCC v. Fox, an agency's change in policy is permissible if the agency acknowledges the change, believes it to be better, and “show[s] that there are good reasons for the new policy.” ²⁵ In section VII.A of our May 2025 Proposed Rule, we stated our reasons for implementing this new policy.²⁶ In sum, the EPA's proposal sufficiently justifies the change in policy under FCC v. Fox.

²⁴ 90 FR 29737, 29738 (July 7, 2025).

²⁵ 556 U.S. 502, 515.

²⁶ 90 FR 22166, 22185-22186 (May 23, 2025).

The decision in FCC v. Fox turned primarily on whether the FCC's change in policy would lead to the FCC “arbitrarily punishing parties without notice of the potential consequences of their action.” ²⁷ As we explained in the proposal, the changed policy is prospective, which addresses the primary concern in FCC v. Fox. Additionally, the new policy “aligns with the purpose of the statute and RHR, which is achieving `reasonable' progress, not maximal progress, toward Congress' natural visibility goal.” ²⁸ Furthermore, we note that the legislative history of CAA section 169A is consistent with our change in policy. The reconciliation report for the 1977 CAA amendments indicates that the term “maximum feasible progress” in section 169A was changed to “reasonable progress” in the final version of the legislation passed by both chambers.²⁹

²⁷ 556 U.S. at 517.

²⁸ 90 FR 22166, 22185 (May 23, 2025). See also, 90 FR 16478, 16483 (April 18, 2025); 90 FR 29737, 29738 (July 7, 2025).

²⁹ See Legislative History of the Clean Air Act Amendments of 1977 Public Law 95-95 (1977), H.R. Rep. No. 95-564, at 535.

As discussed in the West Virginia final action ³⁰ and in section V.A of the RTC Document associated with this rule, the EPA's Regional Consistency regulations at 40 CFR part 56, and in particular 40 CFR 56.5(b), are not relevant to this action. 40 CFR 56.5(b) requires that a “responsible official in a Regional office shall seek concurrence from the appropriate EPA Headquarters office on any interpretation of the Act, or rule, regulation, or program directive when such interpretation may result in application of the act or rule, regulation, or program directive that is inconsistent with Agency policy.” (emphasis added). As we expressly indicated in the proposal, the approval is consistent with the change in agency policy, first announced in Air Plan Approval; West Virginia; Regional Haze State Implementation Plan for the Second Implementation Period. Therefore, there is no obligation under the plain language of the EPA's Regional Consistency regulations for anyone in the region to seek concurrence from EPA Headquarters to take action consistent with EPA policy. The lack of relevance of these regulations to our approval of Texas's 2021 Plan accounts for the lack of materials related to compliance with the Regional Consistency process in the docket for this rule.

³⁰ 90 FR 29737, 29740 (July 7, 2025).

As discussed in the West Virginia final action ³¹ and section V.A of the RTC Document associated with this rule, comments that claim that the EPA “must” publish a finding that our approval of Texas's 2021 Plan is “based on a determination of nationwide scope [or] effect” are also unsupported and incorrect.³² The Supreme Court has recognized that “[b]ecause the `nationwide scope or effect' exception can apply only when `EPA so finds and publishes' that it does, EPA can decide whether the exception is even potentially relevant.” ³³ As the D.C. Circuit has also stated, the “EPA's decision whether to make and publish a finding of nationwide scope or effect is committed to the agency's discretion and thus is unreviewable.” ³⁴ The Administrator has not made and published a finding that our approval of Texas's 2021 Plan is based on a determination of nationwide scope or effect. Accordingly, any petition for review of our approval of Texas's 2021 Plan must be filed in the United States Court of Appeals for the appropriate regional circuit.

³¹ 90 FR 29737, 29740 (July 7, 2025).

³² While commenters did not specifically raise this issue, we note that the EPA's approval of Texas's 2021 Plan is also a “locally or regionally applicable” action under CAA section 307(b)(1). See Oklahoma v. EPA, 145 S. Ct. 1720, 1731 (2025) (a SIP is “a state-specific plan” and “the CAA recognizes this limited scope in enumerating a SIP approval as a locally or regionally applicable action”); see also, Am. Rd. & Transp. Builders Ass'n, 705 F.3d 453, 455 (D.C. Cir. 2013) (describing EPA action to approve a single SIP under CAA section 110 as the “[p]rototypical” locally or regionally applicable action).

³³ Calumet Shreveport Refining, L.L.C., 605 U.S.__(slip op. at 16), citing Sierra Club v. EPA, 47 F.4th 738, 746 (D.C. Cir. 2022).

³⁴ Sierra Club v. EPA, 47 F.4th at 745; see also Texas v. EPA, 983 F.3d 826, 835 (5th Cir. 2020) (“when a locally applicable action is based on a determination of nationwide scope or effect, the EPA has discretion to select the venue for judicial review”).

Finally, as also detailed in sections V and VI of the RTC Document, the 2021 Plan meets the applicable statutory and regulatory requirements. The RHR requires states to submit a long-term strategy that addresses regional haze visibility impairment for each mandatory Class I Federal area within the state and for each mandatory Class I Federal area located outside the state that may be affected by emissions from the state,³⁵ and the statute refers to “a state the emissions from which may reasonably be anticipated to cause or contribute to any impairment of visibility in any such area.” ³⁶ However, there is no specific statutory or regulatory requirement to identify the precise set of Class I areas that are affected by emissions from Texas, and there is no requirement to establish a source contribution threshold in identifying those areas. In this case, Texas appropriately identified affected out-of-state Class I areas, as we explain in section V.B of the RTC Document.

³⁵ 40 CFR 51.308(f)(2).

³⁶ CAA section 169A(b)(2).

A discussed in more detail in section V.B of the RTC Document, Texas selected a reasonable number of sources for which it evaluated potential control measures through consideration of the four statutory factors in CAA section 169A(g)(1). Texas then weighed the total aggregate annualized costs of controls ³⁷ from all the identified controls that fell below their $5,000 cost-effectiveness threshold along with the visibility benefits that would result from the implementation of all the identified controls. As Texas explained in its response to comments on its draft 2021 Plan, the overall analysis in the SIP showed that Texas is making emissions reductions and demonstrating a downward trend in emissions of NOX and SO2 such that Texas is making overall reasonable progress toward the goal of natural visibility conditions.³⁸ Weighing the costs and the maximum amount of visibility benefit from the controls, Texas determined that additional reductions are not needed to make reasonable progress for the second planning period.³⁹

³⁷ Texas determined that the total aggregate annualized cost of controls exceeded $200 million. 2021 Plan, pg. 7-14.

³⁸ 2021 Plan, Response to Comments pg. 3, 21 of 38 (PDF pg. 451, 469 of 653).

³⁹ 2021 Plan pgs. 7-14 to 7-17; 2021 Plan, Response to Comments pg. 3, 21 of 38 (PDF pg. 451, 469 of 653).

As required by the statute, Texas took into consideration the four statutory factors in CAA section 169A(g)(1) and determined that no additional controls for stationary sources were necessary to make reasonable progress. Texas therefore concluded that it was not necessary to incorporate any new emissions limitations, schedules of compliance, or other measures for stationary sources into its 2021 Plan. Thus, Texas did not ignore the results of its consideration of the four statutory factors. Rather, consistent with the CAA, RHR, and EPA's new policy, Texas considered the four factors, and because the affected Class I areas are below the glidepath with the possible exception of Salt Creek (discussed in section II.B of this preamble, Response V.B.1.c in the associated RTC document, and in our proposal), the state is presumed to be making reasonable progress. Thus, the state's final decisions as to the measures necessary to make reasonable progress in the second planning period are reasonable, and EPA concludes that Texas's 2021 Plan satisfied the applicable requirements of the CAA and the RHR.

The full text of comments received is included in the publicly posted docket associated with this rule at www.regulations.gov. The RTC Document, which is also included in the docket associated with this rule, provides detailed responses to all significant comments received. The RTC Document is organized by topic. Therefore, if additional information is desired concerning how the EPA addressed a particular comment, the reader should refer to the appropriate section in the RTC Document.

IV. Impact on Areas of Indian Country

The following information applies only to the portions of Oklahoma's SIP which are approved in this rule. No portions of the Texas SIP which we are approving in this rule apply on any Indian reservation land or in any other area where the EPA or an Indian Tribe has demonstrated that a Tribe has jurisdiction.

Following the U.S. Supreme Court decision in McGirt v Oklahoma, 140 S. Ct. 2452 (2020), the Governor of the State of Oklahoma requested approval under section 10211(a) of the Safe, Accountable, Flexible, Efficient Transportation Equity Act of 2005: A Legacy for Users, Public Law 109-59, 119 Stat. 1144, 1937 (August 10, 2005) (“SAFETEA”), to administer in certain areas of Indian country (as defined at 18 U.S.C. 1151) the State's environmental regulatory programs that were previously approved by the EPA outside of Indian country. The State's request excluded certain areas of Indian country further described below. In addition, the State only sought approval to the extent that such approval is necessary for the State to administer a program in light of Oklahoma Dept. of Environmental Quality v. EPA, 740 F.3d 185 (D.C. Cir. 2014).⁴⁰

⁴⁰ In ODEQ v. EPA, the D.C. Circuit held that under the CAA, states have the authority to implement a SIP in non-reservation areas of Indian country in the state, unless there has been a demonstration of tribal jurisdiction. Under the D.C. Circuit's decision, the CAA does not provide authority to states to implement SIPs in Indian reservations.

The EPA has approved Oklahoma's SAFETEA request to administer all of the State's EPA-approved environmental regulatory programs in the requested areas of Indian country. As requested by Oklahoma, the EPA's approval under SAFETEA does not include Indian country lands, including rights-of-way running through the same, that: (1) qualify as Indian allotments, the Indian titles to which have not been extinguished, under 18 U.S.C. 1151(c); (2) are held in trust by the United States on behalf of an individual Indian or Tribe; or (3) are owned in fee by a Tribe, if the Tribe (a) acquired that fee title to such land, or an area that included such land, in accordance with a treaty with the United States to which such Tribe was a party, and (b) never allotted the land to a member or citizen of the Tribe (collectively “excluded Indian country lands”).

The EPA's approval under SAFETEA expressly provided that to the extent the EPA's prior approvals of Oklahoma's environmental programs excluded Indian country, any such exclusions are superseded for the geographic areas of Indian country covered by the EPA's approval of Oklahoma's SAFETEA request.⁴¹ The approval also provided that future revisions or amendments to Oklahoma's approved environmental regulatory programs would extend to the covered areas of Indian country (without any further need for additional requests under SAFETEA).

⁴¹ The EPA's prior approvals relating to Oklahoma's SIP frequently noted that the SIP was not approved to apply in areas of Indian country (except as explained in the D.C. Circuit's decision in ODEQ v. EPA) located in the State. See, e.g., 85 FR 20178, 20180 (April 10, 2020). Such prior expressed limitations are superseded by the EPA's approval of Oklahoma's SAFETEA request.

As explained in earlier in this preamble and in our May 2025 Proposed Rule, the EPA is approving the portion of Oklahoma's 2010 Plan addressing 40 CFR 51.308(d)(1) ⁴² which we previously disapproved, and which will apply statewide in Oklahoma. Consistent with the D.C. Circuit's decision in ODEQ v. EPA and with the EPA's SAFETEA approval, the portion of Oklahoma's 2010 Plan that we are approving will apply to areas of Indian country as follows: (1) pursuant to the SAFETEA the portion of Oklahoma's Plan that we are approving will apply to all Indian country in the State of Oklahoma other than the excluded Indian country lands as described above; and (2) pursuant to the D.C. Circuit's decision in ODEQ v. EPA, the portion of Oklahoma's 2010 Plan that we are approving will also apply to any Indian allotments or dependent Indian communities that are located outside of any Indian reservation over which there has been no demonstration of tribal authority.

⁴² Excluding the portion addressing 40 CFR 51.308(d)(1)(vi), which we previously approved.

V. Final Action

For the reasons set forth in the May 2025 Proposed Rule, the RTC Document, and in this final rule, the EPA is approving Texas's regional haze State Implementation Plan (SIP) revisions submitted on July 20, 2021, as satisfying the applicable regional haze requirements for the second planning period contained in 40 CFR 51.308(f) and (i). For the reasons set forth in the May 2025 Proposed Rule, the RTC Document, and in this final rule, the EPA is approving Texas's regional haze State Implementation Plan (SIP) revision submitted March 20, 2014, as satisfying the applicable regional haze requirements for the first planning period progress report contained in 40 CFR 51.308(g), (h), and (i). Additionally, the EPA is approving portions of the 2009 Texas Regional Haze SIP submission and portions of the 2010 Oklahoma Regional Haze SIP submission that relate to reasonable progress requirements for the first planning period from 2007 through 2018 as satisfying applicable requirements contained in 40 CFR 51.308(d).

VI. Statutory and Executive Order Reviews

Under the Clean Air Act, the Administrator is required to approve a SIP submission that complies with the provisions of the Clean Air Act and applicable Federal regulations. 42 U.S.C. 7410(k); 40 CFR 52.02(a). Thus, in reviewing SIP submissions, the EPA's role is to approve state choices, provided that they meet the criteria of the Clean Air Act. Accordingly, this final rule merely approves state law as meeting Federal requirements and does not impose additional requirements beyond those imposed by State law. For that reason, this final rule:

• Is not a significant regulatory action subject to review by the Office of Management and Budget under Executive Order 12866 (58 FR 51735, October 4, 1993);

• Is not subject to Executive Order 14192 (90 FR 9065, February 6, 2025) because SIP actions are exempt from review under Executive Order 12866:

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the portions of this final rule that apply to the Texas SIP are not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000). The portion of Oklahoma's 2010 Plan addressing 40 CFR 51.308(d)(1) ⁴³ that we are approving as part of this final rule will apply to certain areas of Indian country throughout Oklahoma as discussed in the preamble, and therefore, has tribal implications as specified in E.O. 13175 (65 FR 67249, November 9, 2000). However, our approval will neither impose substantial direct compliance costs on federally recognized tribal governments, nor preempt tribal law. Our approval of portions of Oklahoma's 2010 Plan will not impose substantial direct compliance costs on federally recognized tribal governments because no actions will be required of tribal governments. Our approval of portions of Oklahoma's 2010 will also not preempt tribal law as no Oklahoma tribe implements a regulatory program under the CAA, and thus does not have applicable or related tribal laws. Consistent with the EPA Policy on Consultation and Coordination with Indian Tribes (December 7, 2023), the EPA offered consultation to tribal governments that may be affected by our approval of portions of Oklahoma's 2010 Plan in a letter dated May 27, 2025. The EPA held a meeting with tribal governments on June 5, 2025, where we provided information about our May 2025 Proposed Rule. No tribes accepted EPA's offer to engage in consultation.

⁴³ Excluding the portion addressing 40 CFR 51.308(d)(1)(vi), which we previously approved.

This final rule is subject to the Congressional Review Act, and the EPA will submit a rule report to each House of the Congress and to the Comptroller General of the United States. This final rule is not a “major rule” as defined by 5 U.S.C. 804(2).

Under section 307(b)(1) of the Clean Air Act, petitions for judicial review of this rule must be filed in the United States Court of Appeals for the appropriate circuit by February 3, 2026. Filing a petition for reconsideration by the Administrator of this final rule does not affect the finality of this rule for the purposes of judicial review nor does it extend the time within which a petition for judicial review may be filed, and shall not postpone the effectiveness of such rule or action. This rule may not be challenged later in proceedings to enforce its requirements. (See section 307(b)(2).)

List of Subjects in 40 CFR Part 52

Environmental protection, Air pollution control, Incorporation by reference, Intergovernmental relations, Nitrogen dioxide, Ozone, Reporting and recordkeeping requirements, Sulfur oxides, Volatile organic compounds.

Authority: 42 U.S.C. 7401 et seq.

Dated: November 18, 2025.
Walter Mason,
Regional Administrator, Region 6.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart LL—Oklahoma

2. In § 52.1920(e), amend the table entitled “EPA-Approved Nonregulatory Provisions and Quasi-Regulatory Measures in the Oklahoma SIP” by:

a. Removing the entry for “Regional Haze SIP: (a) Determination of baseline and natural visibility conditions (b) Coordinating regional haze and reasonably attributable visibility impairment (c) Monitoring strategy and other implementation requirements (d) Coordination with States and Federal Land Managers (e) BART determinations except for the following SO2 BART determinations: Units 4 and 5 of the Oklahoma Gas and Electric (OG&E) Muskogee plant; and Units 1 and 2 of the OG&E Sooner plant”; and

b. Adding an entry for “Oklahoma Regional Haze SIP for the First Planning Period” immediately after the entry for “Interstate transport for the 1997 ozone and PM2.5 NAAQS (Noninterference with measures required to prevent significant deterioration of air quality or to protect visibility in any other State)”.

The addition reads as follows:

§ 52.1920 Identification of plan.

* * * * *

(e) * * *

EPA-Approved Nonregulatory Provisions and Quasi-Regulatory Measures in the Oklahoma SIP
Name of SIP provision | Applicable geographic or nonattainment area | State submittal date | EPA approval date | Explanation
* * * * * * *
Oklahoma Regional Haze SIP for the First Planning Period | Statewide | 2/17/2010 | 3/7/2014, 79 FR 12953; 12/5/2025, 90 FR [INSERT FEDERAL REGISTER PAGE WHERE THE DOCUMENT BEGINS] | Core requirements of 40 CFR 51.308. Initial approval 12/28/2011, 76 FR 81728. Approval for § 51.308(d)(1)(vi) 1/5/2016, 81 FR 349. Approval for § 51.308(d)(1)(i), (ii), (iii), (iv), (v) 12/5/2025, 90 FR [INSERT FEDERAL REGISTER PAGE WHERE THE DOCUMENT BEGINS].
* * * * * * *

* * * * *

§ 52.1928 [Amended]

3. Section 52.1928 is amended by removing paragraph (a)(5).

Subpart SS—Texas

4. In § 52.2270, the second table in paragraph (e), entitled “EPA Approved Nonregulatory Provisions and Quasi-Regulatory Measures in the Texas SIP” is amended by:

a. Revising the entry for “Texas Regional Haze SIP”; and

b. Adding two entries, “Texas Regional Haze 5-Year Progress Report for the First Planning Period” and “Texas Regional Haze SIP for the Second Planning Period”, at the end of the table.

The revision and additions read as follows:

§ 52.2270 Identification of plan.

* * * * *

(e) * * *

EPA-Approved Nonregulatory Provisions and Quasi-Regulatory Measures in the Texas SIP
Name of SIP provision | Applicable geographic or nonattainment area | State submittal/ effective date | EPA approval date | Comments
* * * * * * *
Texas Regional Haze SIP | Statewide | 3/19/2009 | 1/15/2016, 81 FR 350; 12/5/2025, 90 FR [INSERT FEDERAL REGISTER PAGE WHERE THE DOCUMENT BEGINS] | Texas Regional Haze Plan for the First Planning Period. Approval for elements of 40 CFR 51.308(d)(1), (2), (3)(i), (3)(ii), (3)(iii), (3)(iv), (3)(v), (d)(4).
* * * * * * *
Texas Regional Haze 5-Year Progress Report for the First Planning Period | Statewide | 3/24/2014, submittal date | 12/5/2025, 90 FR [INSERT FEDERAL REGISTER PAGE WHERE THE DOCUMENT BEGINS] |
Texas Regional Haze SIP for the Second Planning Period | Statewide | 7/20/2021, submittal date | 12/5/2025, 90 FR [INSERT FEDERAL REGISTER PAGE WHERE THE DOCUMENT BEGINS] |

* * * * *

§ 52.2304 [Amended]

5. Section 52.2304 is amended by removing and reserving paragraph (e).

[FR Doc. 2025-22002 Filed 12-4-25; 8:45 am]

BILLING CODE 6560-50-P